ENVIRONMENTAL PROTECTION AGENCY

[EPA-R06-OW-2025-1542; FRL-13121-01-R6]

Underground Injection Control Program; Hazardous Waste Injection Restrictions; Petition for Exemption Reissuance—Class I Hazardous Waste Injection; Sasol Chemicals (USA), LLC, Greens Bayou Plant, Texas

AGENCY: Environmental Protection Agency (EPA).

ACTION: Notice of a final decision on a no migration petition reissuance.

SUMMARY: Notice is hereby given that a reissuance of an exemption to the land disposal restrictions, under the 1984 Hazardous and Solid Waste Amendments to the Resource Conservation and Recovery Act, is granted to Sasol Chemicals (USA), LLC for two Class I hazardous waste injection wells at the Greens Bayou Plant located in Houston, Texas.

DATES: This action was effective as of December 16, 2025.

ADDRESSES: Copies of the petition reissuance and pertinent information relating thereto are on file at the following location: Environmental Protection Agency (EPA), Region 6, Water Division, Safe Drinking Water Branch (6WD-D), 1201 Elm Street, Suite 500, Dallas, Texas 75270-2102. Digital copies of the petition reissuance and additional relevant information can be found at https://www.regulations.gov/docket/EPA-R06-OW-2025-1542.

FOR FURTHER INFORMATION CONTACT: Forrest Frederick, Physical Scientist, Ground Water/UIC Section, EPA—Region 6, by phone at (214) 665-6656 or by email at Frederick.Forrest@epa.gov.

SUPPLEMENTARY INFORMATION: As required by 40 CFR part 148, Sasol Chemicals (USA), LLC adequately demonstrated to the EPA by the petition reissuance application and supporting documentation that, to a reasonable degree of certainty, there will be no migration of hazardous constituents from the injection zone for as long as the waste remains hazardous. This final decision allows the underground injection by the Greens Bayou Plant, of the specific restricted hazardous wastes identified in this exemption reissuance, into Class I hazardous waste injection Wells WDW-147 and WDW-319 until December 31, 2050, unless EPA terminates this exemption under provisions of 40 CFR 148.24. Additional conditions included in this final decision may be reviewed by contacting the Region 6 Ground Water/UIC Section. As required by 40 CFR 148.22(b) and 124.10, a public notice comment period started on September 3, 2025, and closed on October 20, 2025. Two public comments were received during the public comment period. All comments have been addressed and considered in the final decision. This decision constitutes final Agency action, and there is no Administrative appeal.

Dated: January 14, 2026.
Troy C. Hill,
Director, Water Division, Region 6.

[FR Doc. 2026-01315 Filed 1-22-26; 8:45 am]

BILLING CODE 6560-50-P